DEPARTMENT OF ENERGY

Federal Energy Regulatory Commission

[Project No. P-13221-001]

Notice of Preliminary Permit Application Accepted for Filing and Soliciting Comments, Motions To Intervene, and Competing Applications; Pacific Gas and Electric Company

On September 1, 2011, Pacific Gas and Electric Company filed an application for a successive preliminary permit, pursuant to section 4(f) of the Federal Power Act (FPA), proposing to study the feasibility of the Mokelumne Pumped Storage Project to be located on the North Fork Mokelumne River, Bear River, and Cole Creek, in Amador and Calaveras Counties, California. The sole purpose of a preliminary permit, if issued, is to grant the permit holder priority to file a license application during the permit term. A preliminary permit does not authorize the permit holder to perform any land-disturbing activities or otherwise enter upon lands or waters owned by others without the owners' express permission.

The proposed project would consist of the following: (1) Using the existing Lower Bear River reservoir, with a surface area of 746 acres, storage capacity of 49,079 acre-feet, and normal water surface elevation of 5,822 feet mean sea level (msl), as the upper reservoir, with the possibility of a dam raise to increase capacity; (2) a 16,000-foot-long power tunnel including intake structure and penstock; (3) the existing Salt Springs reservoir, with a surface area of 960 acres, storage capacity of 141,817 acre-feet, and a normal water surface elevation of 3,959 feet msl, as the lower reservoir; (4) a powerhouse with a total installed capacity from 300 to 1,200 megawatts; and (5) a 230- or 500-kilovolt overhead transmission line. The annual electrical production would be between 396 and 1,584 gigawatt-hours.

Besides the proposed use of the existing Lower Bear River Reservoir as the upper reservoir, PG&E also plans to continue studying two alternatives: (1) The existing Upper Bear River reservoir; and (2) a new reservoir on Cole Creek.

Applicant Contact: Mr. Randy Livingstone, Pacific Gas and Electric Company, 245 Market Street, MC N11E-1137, San Francisco, CA 94105-1702, Phone (415) 973-6950, and Ms. Annette Faraglia, Pacific Gas and Electric Company, 77 Beale Street, MC B30A-2479, San Francisco, CA 94105-1814, phone (415) 973-7145.

FERC Contact: Jim Fargo; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13221-001) in the docket number field to access the document. For assistance, contact FERC Online Support.

Dated: September 9, 2011.
Kimberly D. Bose,
Secretary.

[FR Doc. 2011-23738 Filed 9-15-11; 8:45 am]

BILLING CODE 6717-01-P